DEPARTMENT OF COMMERCE

International Trade Administration

[A-570-893]

Certain Frozen Warmwater Shrimp From the People's Republic of China: Final Results of Antidumping Duty Administrative Review and Final Determination of No Shipments; 2019-2020

AGENCY: Enforcement and Compliance, International Trade Administration, Department of Commerce.

SUMMARY: The Department of Commerce (Commerce) determines that four exporters subject to this administrative review had no shipments of certain frozen warmwater shrimp (shrimp) from the People's Republic of China (China) during the period of review (POR) February 1, 2019, through January 31, 2020. We also determine that the 125 remaining companies subject to this review are part of the China-wide entity because they failed to demonstrate their eligibility for separate rates.

DATES: Applicable June 11, 2021.

FOR FURTHER INFORMATION CONTACT: Jasun Moy, AD/CVD Operations, Office V, Enforcement and Compliance, International Trade Administration, U.S. Department of Commerce, 1401 Constitution Avenue NW, Washington, DC 20230; telephone: (202) 482-8194.

SUPPLEMENTARY INFORMATION:

Background

On March 22, 2021, Commerce published the preliminary results of this administrative review.¹ We invited parties to comment on the Preliminary Results. No party submitted comments. Accordingly, the final results remain unchanged from the Preliminary Results.

¹ See Certain Frozen Warmwater Shrimp from the People's Republic of China: Preliminary Results of Antidumping Duty Administrative Review and Preliminary Determination of No Shipments; 2019-2020, 86 FR 15195 (March 22, 2021) (Preliminary Results).

Scope of the Order

The products covered by this order are shrimp from China. For a complete description of the scope, see Appendix II.

Final Determination of No Shipments

Commerce preliminarily found that: (1) Allied Pacific; ² (2) Shantou Red Garden Foods; ³ (3) Zhangzhou Hongwei Foods Co., Ltd. (Zhangzhou Hongwei); and (4) Zhanjiang Guolian Aquatic Products Co., Ltd. (Zhanjiang Guolian) had no shipments during the POR.⁴ As noted in the Preliminary Results, we received no shipment statements from the four exporters identified above, and the statements were consistent with the information we received from U.S. Customs and Border Protection (CBP).

² Allied Pacific Food (Dalian) Co., Ltd./Allied Pacific (HK) Co., Ltd./Allied Pacific Aquatic Products (Zhanjiang) Co., Ltd/Allied Pacific Aquatic Products (Zhongshan) Co., Ltd. comprise the single entity Allied Pacific. See Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013) (Exclusion Notice). Additionally, Allied Pacific is excluded from the order with respect to merchandise exported by Allied Pacific (HK) Co., Ltd., or Allied Pacific Food (Dalian) Co., Ltd., and manufactured by Allied Pacific Aquatic Products (Zhanjiang) Co., Ltd., or Allied Pacific Aquatic Products (Zhongshan) Co., Ltd., or Allied Pacific Food (Dalian) Co., Ltd. See Exclusion Notice, 78 FR at 18959. Allied Pacific submitted a no shipment certification for exports outside the above combinations. See Allied Pacific's Letter, “Certain Frozen Warmwater Shrimp from the People's Republic of China: Notice of No Shipments,” dated April 27, 2020.

³ Shantou Red Garden Food Processing Co., Ltd./Shantou Red Garden Foodstuff Co., Ltd. comprise the single entity Shantou Red Garden Foods. See Certain Frozen Warmwater Shrimp from the People's Republic of China: Final Results of Antidumping Duty Administrative Review and Final Determination of No Shipments; 2018-2019, 85 FR 83891 (December 23, 2020).

⁴ Zhanjiang Guolian is excluded from the order with respect to merchandise produced and exported by Zhanjiang Guolian. See Notice of Amended Final Determination of Sales at Less Than Fair Value and Antidumping Duty Order: Certain Frozen Warmwater Shrimp from the People's Republic of China, 70 FR 5149, 5152 (February 1, 2005). Zhanjiang Guolian submitted a no shipment certification for exports outside the above combination. See Zhanjiang Guolian's Letter, “Certain Frozen Warmwater Shrimp from the People's Republic of China: Notice of No Shipments,” dated May 15, 2020.

No party commented on our preliminary no-shipment findings with respect to Allied Pacific, Shantou Red Garden Foods, Zhangzhou Hongwei, and Zhanjiang Guolian. Therefore, for these final results, we continue to find that these four exporters had no shipments of subject merchandise to the United States during the POR.

China-Wide Entity

With the exception of Allied Pacific, Shantou Red Garden Foods, Zhangzhou Hongwei, and Zhanjiang Guolian, we find all other companies for which a review was requested to be part of the China-wide entity because they failed to file no-shipment statements, separate rate applications, or separate rate certifications. Accordingly, the companies listed in Appendix I are part of the China-wide entity.

Because no party requested a review of the China-wide entity, and Commerce no longer considers the China-wide entity as an exporter conditionally subject to administrative reviews, we did not conduct a review of the China-wide entity. The rate previously established for the China-wide entity is 112.81 percent and is not subject to change as a result of this review.⁵

⁵ See Notice of Amended Final Determination of Sales at Less Than Fair Value and Antidumping Duty Order: Certain Frozen Warmwater Shrimp from the People's Republic of China, 70 FR 5149 (February 1, 2005).

Assessment Rates

We have not calculated any assessment rates in this administrative review. Based on record evidence, we have determined that Allied Pacific, Shantou Red Garden Foods, Zhangzhou Hongwei, and Zhanjiang Guolian had no shipments of subject merchandise, and, therefore, pursuant to Commerce's assessment practice, any suspended entries entered under their case numbers will be liquidated at the China-wide entity rate.⁶

⁶ See Non-Market Economy Antidumping Proceedings: Assessment of Antidumping Duties, 76 FR 65694 (October 24, 2011).

For all remaining companies subject to this review, which are part of the China-wide entity, we will instruct CBP to liquidate their entries at the current rate for the China-wide entity (i.e., 112.81 percent). Consistent with its recent notice,⁷ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁷ See Notice of Discontinuation of Policy to Issue Liquidation Instructions After 15 Days in Applicable Antidumping and Countervailing Duty Administrative Proceedings, 86 FR 3995 (January 15, 2021).

Cash Deposit Requirements

The following cash deposit requirements will be effective upon publication of the final results of this review for shipments of subject merchandise from China entered, or withdrawn from warehouse, for consumption on or after the publication date, as provided by section 751(a)(2)(C) of the Act: (1) For previously investigated or reviewed Chinese and non-Chinese exporters that received a separate rate in a prior segment of this proceeding, and which were not assigned the China-wide rate in this review, the cash deposit rate will continue to be the existing exporter-specific rate published for the most recently-completed period; (2) for all Chinese exporters of subject merchandise that have not been found to be entitled to a separate rate (including the companies listed in Appendix I), the cash deposit rate will be that for the China-wide entity (i.e., 112.81 percent); and (3) for all non-Chinese exporters of subject merchandise which have not received their own rate, the cash deposit rate will be the rate applicable to the Chinese exporter that supplied that non-Chinese exporter. These cash deposit requirements, when imposed, shall remain in effect until further notice.

Notification to Importers

This notice also serves as a final reminder to importers of their responsibility under 19 CFR 315.402(f)(2) to file a certificate regarding the reimbursement of antidumping duties prior to liquidation of the relevant entries during this review period. Failure to comply with this requirement could result in Commerce's presumption that reimbursement of antidumping duties occurred and the subsequent assessment of double antidumping duties.

Administrative Protective Orders

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Interested Parties

These final results are issued and published in accordance with sections 751(a)(1) and 777(i) of the Act, and 19 CFR 351.213(h).

Dated: June 7, 2021.
Christian Marsh,
Acting Assistant Secretary for Enforcement and Compliance.

Appendix I

List of Companies Determined To Be Part of the China-Wide Entity

1. Anhui Fuhuang Sungem Foodstuff Group Co., Ltd

2. Asian Seafoods (Zhanjiang) Co., Ltd.

3. Beihai Anbang Seafood Co., Ltd.

4. Beihai Boston Frozen Food Co., Ltd.

5. Beihai Tianwei Aquatic Food Co. Ltd.

6. Changli Luquan Aquatic Products Co., Ltd.

7. Chengda Development Co. Ltd.

8. Dalian Beauty Seafood Company Ltd.

9. Dalian Changfeng Food Co., Ltd.

10. Dalian Guofu Aquatic Products and Food Co., Ltd.

11. Dalian Haiqing Food Co., Ltd.

12. Dalian Hengtai Foods Co., Ltd.

13. Dalian Home Sea International Trading Co., Ltd.

14. Dalian Philica International Trade Co., Ltd.

15. Dalian Philica Supply Chain Management Co., Ltd.

16. Dalian Rich Enterprise Group Co., Ltd.

17. Dalian Shanhai Seafood Co., Ltd.

18. Dalian Sunrise Foodstuffs Co., Ltd.

19. Dalian Taiyang Aquatic Products Co., Ltd.

20. Dandong Taihong Foodstuff Co., Ltd

21. Dongwei Aquatic Products (Zhangzhou) Co., Ltd.

22. Ferrero Food

23. Food Processing Co., Ltd.

24. Fujian Chaohui Aquatic Food Co., Ltd.

25. Fujian Chaohui Group

26. Fujian Chaohui International Trading Co., Ltd.

27. Fujian Dongshan County Shunfa Aquatic Product Co., Ltd.

28. Fujian Dongwei Food Co., Ltd.

29. Fujian Dongya Aquatic Products Co., Ltd.

30. Fujian Fuding Seagull Fishing Food Co., Ltd.

31. Fujian Hainason Trading Co., Ltd.

32. Fujian Haohui Import & Export Co., Ltd.

33. Fujian Hongao Trade Development Co.

34. Fujian R & J Group Ltd.

35. Fujian Rongjiang Import and Export Co., Ltd.

36. Fujian Zhaoan Haili Aquatic Co., Ltd.

37. Fuqing Chaohui Aquatic Food Co., Ltd.

38. Fuqing Dongwei Aquatic Products Industry Co., Ltd.

39. Fuqing Longhua Aquatic Food Co., Ltd.

40. Fuqing Minhua Trade Co., Ltd.

41. Fuqing Yihua Aquatic Food Co., Ltd.

42. Gallant Ocean Group

43. Guangdong Foodstuffs Import & Export (Group) Corporation

44. Guangdong Gourmet Aquatic Products Co., Ltd.

45. Guangdong Jinhang Foods Co., Ltd.

46. Guangdong Rainbow Aquatic Development

47. Guangdong Shunxin Marine Fishery Group Co., Ltd.

48. Guangdong Taizhou Import & Export Trade Co., Ltd.

49. Guangdong Universal Aquatic Food Co. Ltd.

50. Guangdong Wanshida Holding Corp.

51. Guangdong Wanya Foods Fty. Co., Ltd.

52. HaiLi Aquatic Product Co., Ltd.

53. Hainan Brich Aquatic Products Co., Ltd.

54. Hainan Golden Spring Foods Co., Ltd.

55. Hainan Qinfu Foods Co., Ltd.

56. Hainan Xintaisheng Industry Co., Ltd.

57. Huazhou Xinhai Aquatic Products Co. Ltd.

58. Kuehne Nagel Ltd. Xiamen Branch

59. Leizhou Bei Bu Wan Sea Products Co., Ltd.

60. Longhai Gelin Foods Co., Ltd.

61. Maoming Xinzhou Seafood Co., Ltd.

62. New Continent Foods Co., Ltd.

63. Ningbo Prolar Global Co., Ltd.

64. North Seafood Group Co.

65. Pacific Andes Food Ltd.

66. Penglai Huiyang Foodstuff Co., Ltd.

67. Penglai Yuming Foodstuff Co., Ltd.

68. Qingdao Free Trade Zone Sentaida

69. Qingdao Fusheng Foodstuffs Co., Ltd.

70. Qingdao Yihexing Foods Co., Ltd.

71. Qingdao Yize Food Co., Ltd.

72. Qingdao Zhongfu International

73. Qinhuangdao Gangwan Aquatic Products Co., Ltd.

74. Rizhao Meijia Aquatic Foodstuff Co., Ltd.

75. Rizhao Meijia Keyuan Foods Co. Ltd.

76. Rizhao Rongxing Co. Ltd.

77. Rizhao Smart Foods Company Limited

78. Rongcheng Yinhai Aquatic Product Co., Ltd.

79. Rushan Chunjiangyuan Foodstuffs Co., Ltd.

80. Rushan Hengbo Aquatic Products Co., Ltd.

81. Savvy Seafood Inc.

82. Sea Trade International Inc.

83. Shanghai Zhoulian Foods Co., Ltd.

84. Shantou Freezing Aquatic Product Foodstuffs Co.

85. Shantou Haili Aquatic Product Co. Ltd.

86. Shantou Haimao Foodstuff Factory Co., Ltd.

87. Shantou Jiazhou Food Industrial Co., Ltd.

88. Shantou Jintai Aquatic Product Industrial Co., Ltd.

89. Shantou Longsheng Aquatic Product Foodstuff Co., Ltd.

90. Shantou Ocean Best Seafood Corporation

91. Shantou Ruiyuan Industry Co., Ltd.

92. Shantou Wanya Foods Fty. Co., Ltd.

93. Shantou Yuexing Enterprise Company

94. Shengyuan Aquatic Food Co., Ltd.

95. Suizhong Tieshan Food Co., Ltd.

96. Thai Royal Frozen Food Zhanjiang Co., Ltd.

97. Tongwei Hainan Aquatic Products Co., Ltd.

98. Xiamen East Ocean Foods Co., Ltd.

99. Xiamen Granda Import and Export Co., Ltd.

100. Yangjiang Dawu Aquatic Products Co., Ltd.

101. Yangjiang Guolian Seafood Co., Ltd.

102. Yangjiang Haina Datong Trading Co.

103. Yantai Longda Foodstuffs Co., Ltd.

104. Yantai Tedfoods Co., Ltd.

105. Yantai Wei Cheng Food Co., Ltd.

106. Yantai Wei-Cheng Food Co., Ltd.

107. Yixing Magnolia Garment Co., Ltd.

108. Zhangzhou Donghao Seafoods Co., Ltd.

109. Zhangzhou Xinhui Foods Co., Ltd.

110. Zhangzhou Xinwanya Aquatic Product Co., Ltd.

111. Zhangzhou Yanfeng Aquatic Product & Foodstuff Co., Ltd.

112. Zhanjiang Evergreen Aquatic Product Science and Technology Co., Ltd.

113. Zhanjiang Fuchang Aquatic Products Co., Ltd.

114. Zhanjiang Fuchang Aquatic Products Freezing Plant

115. Zhanjiang Longwei Aquatic Products Industry Co., Ltd.

116. Zhanjiang Newpro Foods Co., Ltd.

117. Zhanjiang Regal Integrated Marine Resources Co., Ltd.

118. Zhanjiang Universal Seafood Corp.

119. Zhaoan Yangli Aquatic Co., Ltd.

120. Zhejiang Evernew Seafood Co.

121. Zhejiang Xinwang Foodstuffs Co., Ltd.

122. Zhoushan Genho Food Co., Ltd.

123. Zhoushan Green Food Co., Ltd.

124. Zhoushan Haizhou Aquatic Products

125. Zhuanghe Yongchun Marine Products

Appendix II

Scope of the Order

The scope of the order includes certain frozen warmwater shrimp and prawns, whether wild caught (ocean harvested) or farm raised (produced by aquaculture), head on or head off, shell on or peeled, tail on or tail off,⁸ deveined or not deveined, cooked or raw, or otherwise processed in frozen form.

⁸ “Tails” in this context means the tail fan, which includes the telson and the uropods.

The frozen warmwater shrimp and prawn products included in the scope of the order, regardless of definitions in the harmonized tariff schedule (HTS), are products which are processed from warmwater shrimp and prawns through freezing and which are sold in any count size.

The products described above may be processed from any species of warmwater shrimp and prawns. Warmwater shrimp and prawns are generally classified in, but are not limited to, the Penaeidae family. Some examples of the farmed and wild caught warmwater species include, but are not limited to, white-leg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the order. In addition, food preparations, which are not “prepared meals,” that contain more than 20 percent by weight of shrimp or prawn are also included in the scope of the order.

Excluded from the scope are: (1) Breaded shrimp and prawns (HTS subheading 1605.20.1020); (2) shrimp and prawns generally classified in the Pandalidae family and commonly referred to as coldwater shrimp, in any state of processing; (3) fresh shrimp and prawns whether shell on or peeled (HTS subheadings 0306.23.0020 and 0306.23.0040); (4) shrimp and prawns in prepared meals (HTS subheading 1605.20.0510); (5) dried shrimp and prawns; (6) Lee Kum Kee's shrimp sauce; (7) canned warmwater shrimp and prawns (HTS subheading 1605.20.1040); and (8) certain battered shrimp. Battered shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. When dusted in accordance with the definition of dusting above, the battered shrimp product is also coated with a wet viscous layer containing egg and/or milk, and par-fried.

The products covered by this order are currently classified under the following HTS subheadings: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. These HTS subheadings are provided for convenience and for customs purposes only; the written description of the scope of this order is dispositive.⁹

⁹ On April 26, 2011, Commerce amended the order to include dusted shrimp, pursuant to the CIT decision in Ad Hoc Shrimp Trade Action Committee v. United States, 703 F. Supp. 2d 1330 (CIT 2010) and the U.S. International Trade Commission (ITC) determination, which found the domestic like product to include dusted shrimp. See Certain Frozen Warmwater Shrimp from Brazil, India, the People's Republic of China, Thailand, and the Socialist Republic of Vietnam: Amended Antidumping Duty Orders in Accordance with Final Court Decision, 76 FR 23277 (April 26, 2011); see also Frozen Warmwater Shrimp from Brazil, China, India, Thailand, and Vietnam (Investigation Nos. 731-TA-1063, 1064, 1066-1068 (Review), USITC Publication 4221, March 2011.

[FR Doc. 2021-12317 Filed 6-10-21; 8:45 am]

BILLING CODE 3510-DS-P